DEPARTMENT OF DEFENSE

Office of the Secretary

[Transmittal No. 21-28]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-28 with attached Policy Justification.

Dated: July 28, 2021.
Aaron T. Siegel,
Alternate OSD Federal Register Liaison Officer, Department of Defense.

BILLING CODE 5001-06-P

Transmittal No. 21-28

Notice of Proposed Issuance of Letter of Offer Pursuant to Section 36(b)(1) of the Arms Export Control Act, as amended

(i) Prospective Purchaser: Government of the Netherlands

(ii) Total Estimated Value:

Major Defense Equipment * | $ 0 million
Other | $125 million
TOTAL | $125 million

(iii) Description and Quantity or Quantities of Articles or Services under Consideration for Purchase:

Foreign Military Sales Case NE-B-WJO, implemented on December 28, 2016, was below congressional notification threshold at $59.8 million for the Royal Netherlands Air Force CH-47 pilot training program and logistics support at Fort Hood, Texas. The Netherlands has requested the case be amended to include additional support, which will push the current case above the notification threshold and thus requires notification of the entire case.

Major Defense Equipment (MDE):

None

Non-MDE:

Support for the Royal Netherlands Air Force CH-47 training program, to include fuel; base operating support; facilities; publications and technical documentation; pilot training; personnel training and training equipment; weapon system and software support; U.S. Government and contractor technical, engineering, and logistics personnel services; and other related elements of logistical and program support.

(iv) Military Department: Army (NE-B-WJO)

(v) Prior Related Cases, if any: None

(vi) Sales Commission, Fee, etc., Paid, Offered, or Agreed to be Paid: None

(vii) Sensitivity of Technology Contained in the Defense Article or Defense Services Proposed to be Sold: None

(viii) Date Report Delivered to Congress: March 16, 2021

* As defined in Section 47(6) of the Arms Export Control Act.

POLICY JUSTIFICATION

The Netherlands—CH-47 Pilot Training and Logistics Support

The Government of the Netherlands has requested support for the Royal Netherlands Air Force CH-47 training program, to include fuel; base operating support; facilities; publications and technical documentation; pilot training; personnel training and training equipment; weapon system and software support; U.S. Government and contractor technical, engineering, and logistics personnel services; and other related elements of logistical and program support. The total overall estimated value is $125 million.

This proposed sale will support the foreign policy and national security of the United States by helping to improve the security of a NATO ally which is an important force for the political stability and economic progress in Europe.

The proposed sale will improve the Netherlands' capability to maintain a set of highly trained and deployment-ready Royal Netherlands Air Force Chinook units via continued training activities at Fort Hood, Texas. This training includes the AMERICAN FALCON exercise, which serves as a certifying event for Dutch military units and personnel to deploy abroad, often supporting U.S.-led coalition operations. The Netherlands will have no difficulty absorbing this training and support into its armed forces.

The proposed sale of this equipment and support will not alter the basic military balance in the region.

This proposed sale does not contain any principal contractor. There are no known offset agreements proposed in connection with this potential sale.

Implementation of this proposed sale will not require the assignment of any additional U.S. Government or contractor representatives to the Netherlands.

There will be no adverse impact on U.S. defense readiness as a result of this proposed sale.

[FR Doc. 2021-16768 Filed 8-4-21; 8:45 am]

BILLING CODE 5001-06-C